DEPARTMENT OF TRANSPORTATION

Office of the Secretary

14 CFR Parts 217, 241, 291 and 298

[Docket No. OST 98-4043]

RIN 2139-AA08

Air Carrier Traffic and Capacity Data by Nonstop Segment and On-Flight Market

AGENCY: Office of Secretary, DOT.

ACTION: Notice of proposed rulemaking.

SUMMARY: The Department of Transportation is considering modifying the T-100/T-100(f) Traffic Reporting System. Joint-service operations would be reported by the operating carrier. Small certificated, commuter, and all-cargo air carriers would report their air traffic activity under the T-100 Traffic Reporting System instead of Form 298-C Schedules A-1, E-1, and T-1; and Form 291-A. The current T-100 Reporting System would be modified to require U.S. carriers to report the detailed market and segment information for all their military, domestic all-cargo, and domestic charter flights. The Form 41 Supplemental T-1, T-2, and T-3 schedules would be eliminated. Foreign air carriers would be required to report on the T-100(f) all flights to/from the United States thus, eliminating the small aircraft reporting exclusion. The Department would require U.S. carriers to submit total aircraft hours for each reported aircraft type, fuel consumed by aircraft type and aircraft days assigned to service. Currently, there is a lack of market and segment data for domestic all-cargo, domestic charter and small aircraft operations. The proposed changes are designed to fill the data gaps for these rapidly growing segments in the air transportation industry.

DATES: Comment Deadline: November 26, 2001.

ADDRESSES: Submit written, signed comments to the docket that appears in the heading of this document to the Docket Clerk, U.S. DOT Dockets, Room PL-401, 400 Seventh Street SW., Washington DC 20590-0001. All comments received will be available for examination at the above address from 9 a.m. to 5 p.m., Monday through Friday, except Federal Holidays. Those wishing notification of acceptance of their comments must include a self addressed stamped envelop or postcard.

FOR FURTHER INFORMATION CONTACT: Bernard Stankus or Clay Moritz, Office of Airline Information, K-25, Bureau of Transportation Statistics, Department of Transportation, 400 Seventh Street, SW, Washington, DC, 20590-0001, (202) 366-4387 or 366-4385, respectively. They may also be contacted by e-mail at clay.moritz@bts.gov or bernard.stankus@bts.gov or by fax at (202) 366-3383.

SUPPLEMENTARY INFORMATION:

Electronic Access

An electronic copy of this document may be downloaded by using a computer, modem, and suitable communications software from the Government Printing Office's Electronic Bulletin Board Services at (202) 512-1661. Internet users may reach the Office of the Federal Register's home page at: http://www.nara.gov/fedreg and the Government Printing Office's database at: http://www.access.gpo.gov/nara. You can also view and download this document by going to the webpage of the Department's Docket Management System (http://dms.dot.gov/). On that page click on “search.” On the next page, type the last four digits of the docket number shown on the first page of this document. Then click on “search.”

1. Background

This notice of proposed rulemaking (NPRM) is part of a joint effort by the Bureau of Transportation Statistics (BTS) and the Office of the Secretary (OST) to conduct a broad-based review of the requirements for aviation data and to modernize the way BTS collects, processes, and disseminates aviation data. As a first step in this review, BTS and OST's Office of the Assistant Secretary for Aviation and International Affairs jointly issued an advance notice of proposed rulemaking (ANPRM) (July 15, 1998, 63 FR 28128). The Department solicited comments on the nature, scope, source, and means for collecting, processing, and distributing airline information. The ANPRM covered the Bureau's major data systems, including those providing traffic, fare, and financial data. The Department invited comments about whether existing aviation data collections should be amended, supplemented, or replaced; whether selected forms and reports should be retained, modified, or eliminated; whether aviation data should be filed electronically; and how the aviation data systems should be re-engineered to enhance efficiency and reduce costs for both the Department and airline industry. The Department has subsequently been conducting additional outreach and research activities to further assess data requirements and how the data reporting and processing systems can be improved.

The ANPRM and subsequent outreach and program analysis has taken a very broad approach, examining not only the types of traffic, fare, and financial information that should be collected, but also the sources of the data and how the data should be collected and processed. The BTS believes it will be more practical and manageable to proceed with this rulemaking to correct immediate deficiencies addressing a distinct aspect of the overall review.

This proposed rule deals with the types of market and segment data BTS should collect and from what sources. BTS believes this is an appropriate topic because the changes being proposed will meet several of the Department's immediate needs. Support for these changes has also been expressed by several commenters.

In response to the ANPRM, approximately 45 comments were received from various U.S. and foreign air carriers, airport operators, trade associations, labor organizations, and airline consultants. Many suggestions were made on how to improve aviation data by collecting more relevant data, and by using advanced information technologies. Specifically, the commenters identified immediate needs to collect market and segment data on domestic charter and all-cargo services from all U.S. air carriers, and market and segment data from foreign air carriers for operations conducted with small aircraft. Currently, large certificated air carriers do not provide either market or segment data for domestic charter and domestic all-cargo services. Small certificated and commuter air carriers report their traffic statistics under the less sophisticated Form 298-C reporting system. Part 291 all-cargo carriers do not report market or segment data. Foreign carriers do not report operations with small aircraft (60 seats or less or 18,000 pounds of payload capacity or less).

In the current Schedule T-100 reporting system, large U.S. certificated carriers report detailed nonstop segment and on-flight market data for scheduled domestic passenger/cargo service; international scheduled passenger/cargo service, international scheduled all-cargo service; and international charter service for passengers and/or cargo. Detailed data for military service and domestic charter service and domestic all-cargo services are not reported in the nonstop segment and on-flight market records.

The detailed nonstop segment data that are currently reported includes the following items:

Carrier, carrier entity code

Reporting period date

Origin airport code

Destination airport code

Service class code

Aircraft type code

Revenue passengers transported

Transported freight

Transported mail

Available capacity payload

Available seats, total

Revenue aircraft departures performed

Revenue aircraft departures scheduled

Revenue aircraft hours (airborne)

Aircraft hours (ramp-to-ramp)

Total aircraft hours (airborne)

The detailed on-flight market data that are currently reported include the following items:

Carrier, carrier entity code

Reporting period date

Origin airport code

Destination airport code

Service class code

Revenue passengers enplaned

Enplaned freight

Enplaned mail

If the Department collected detailed nonstop segment and on-flight market data for all types of flight operations, the Department would be able to calculate from the segment and market records the following data items for all reporting air carriers:

Revenue passenger-miles

Revenue cargo tons enplaned

Revenue tons transported

Revenue ton-miles

Revenue ton-miles passenger

Revenue ton-miles freight

Revenue ton-miles mail

Available ton-miles

Available seat-miles

Revenue aircraft miles flown

Revenue aircraft miles scheduled

Inter-airport distance

2. Joint-Service Operations To Be Reported by Operating Carrier

American Airlines, Airport Council International-North American (ACI-NA), Port of Portland; Metropolitan Washington Airports Authority; John F. Brown Company, Unisys; and the Allied Pilots Association recommended that carriers identify the marketing partner for joint-service operations. Comments from Air New Zealand, Britannia, Lufthansa, and Qantas indicated that foreign air carriers do not use data reported to the US Department of Transportation, and they object to any change that would increase the reporting burden of foreign air carriers.

The Department proposes that joint-service operations would be reported by the operating carrier. This is a change from the current practice that requires the carrier taking the economic risk for the operation to report the operation. This reporting system served the industry well in the past. Most joint-service arrangements were short-term wet-lease or substitution-of-service operations. A wet-lease operation is where one air carrier leases an aircraft with flight crew to another air carrier. The proliferation of various types of joint-service arrangements has, however, created confusion concerning the interpretation of which carrier is taking the economic risk. For example, there are at least three different types of code-share arrangements between major carriers and commuter air carriers: (1) An arrangement where the major carrier pays the commuter carrier based on block-hours flown; (2) the traditional arrangement where the major carrier pays the commuter carrier for each passenger or cargo unit transported; and (3) an arrangement that reflects some combination of the previous two arrangements. In example (1), the major carrier is taking the economic risk. In example (2), the commuter air carrier is taking the economic risk. In example (3), there is a joint risk between the commuter and the major air carrier. Although these three arrangements appear the same to the Federal Aviation Administration (FAA), the traveling public, and aviation analysts, they are reported differently. BTS would have to have knowledge of the underlying economic agreement to understand which air carrier should report the traffic and operating statistics. Moreover, there is not a consensus among the Federal Government, the carriers, and aviation analysts as to which carrier should report. The FAA and National Transportation Safety Board (NTSB) prefer reporting by the operating air carrier. NTSB needs exposure data from operating carriers. Exposure data are the rate of incidents, accidents, or deaths per departure, aircraft hours, or revenue passenger-miles for the various operating segments of the airline industry. These statistics assist NTSB in identifying problem areas and performing trend analyses. The FAA needs the departure and aircraft hours from the operating carrier for assigning safety inspectors.

While BTS recognizes that there is a burden placed on carriers in implementing a reporting change, it is also aware of the increasing diversity in the makeup of code-share agreements within the air transportation industry. Code-sharing has become more widespread in both interstate and foreign air transportation. Congress has urged the DOT to analyze more thoroughly the effects of international code-sharing on air transportation in general and U.S. air carriers in particular. The reporting changes proposed by this rulemaking would produce more consistent data on international and domestic code-share flights. In the United States, regional carrier service is growing as major carriers are handing over more service to their code-share partners. The level of service to small communities can be affected by code-sharing. This creates a need for DOT to monitor the impact of code sharing on the affected communities. Because of these factors, the Department, the FAA and NTSB require data on the air carriers actually operating the aircraft under joint-service agreements.

This need for international and purely domestic code-share data, coupled with the fact many international passengers interline on domestic code-share flights, adds an urgency to the Department's need to collect information on the operating carriers for both international and domestic operations. The new reporting scheme would simplify data analysis on both an industry-wide and individual air carrier basis.

The Department agrees with the comments that stated the data would have increased utility if both the operating and marketing carriers were identified in the Schedule T-100 reports. However, the Department believes that the added reporting burden, especially to small certificated and commuter air carriers, outweighs the data analysis benefits of dual carrier reporting. The lack of marketing carrier data in the T-100 data base is mitigated by the fact knowledgeable analysts can use T-100 data in conjunction with passenger origin-destination survey data to identify marketing carriers over various routes.

3. Reporting of Domestic All-Cargo, Domestic Charter, and Military Operations

There was strong support among the comments submitted to expand T-100 reporting of detailed nonstop segment and on-flight market to include the reporting of domestic charter and all-cargo operations. The following parties recommended that U.S. carriers report segment and market data for either domestic all-cargo or charter operations:

Airlines

American Airlines

Continental Airlines

Delta Air Lines

Northwest Airlines

United Parcel Service

US Airways

Airport Operators

ACI-NA

Los Angeles World Airports

Norfolk Airport Authority

Metropolitan Washington Airports Authority

Oakland International Airport

The Port Authority of New York & New Jersey

Port of Portland

Wayne County and Detroit Metropolitan Wayne County Airport

Government Agencies

United States Postal Service

Aviation Consulting Groups

Air Cargo Management Group

Back Information Services

Data Base Products

John F. Brown Company

R.W. Mann & Company

Unisys

BTS is proposing that the T-100 Reporting System be amended to require carriers to report nonstop segment and on-flight market information for domestic all-cargo, domestic charter, and domestic and international military operations. Historically, these data have not been reported in detail. Instead, the air carriers were required to submit, by geographic entity, supplemental Form 41 Schedules T-1, T-2, and T-3 for domestic all-cargo, domestic charter, and domestic and international military operations. The supplemental Schedule T-2 also contains some data elements for the carrier's overall or system operation.

BTS believes that the proposal to report nonstop segment and on-flight market data in detail for all domestic all-cargo, domestic charter, and domestic and international military operations will not significantly increase carrier reporting burden. In most instances, reporting burden would actually decrease because the supplemental Schedules T-1, T-2, and T-3 would be eliminated. The Department would be able to eliminate the supplemental schedules because it would be able to calculate most of the data elements currently reported on the supplemental schedules from the proposed air carriers' more detailed T-100 reports. BTS, however, would still require air carriers to report three data elements: Total aircraft hours by aircraft type (revenue aircraft hours plus nonrevenue aircraft hours), aircraft days assigned to service—carrier routes by aircraft type, and aircraft fuels issued (gallons) by aircraft type. These three data items cannot be calculated by the Department from the proposed detailed Schedule T-100 reports. BTS proposes that the carriers include these data elements on the quarterly Form 41 Schedule P-2, Notes to BTS Form 41. Within the past year, several carriers have requested on their own and received waivers to submit detailed Schedule T-100 reports for all their revenue flights, thus negating the need for the supplemental schedules. These carriers have stated it is easier for them to submit all reports in detail rather than reporting some flights in detail and tracking specific statistics from the other flights. Accounting for each flight in the same manner should simplify the reporting requirements.

Listed below are the data elements of Schedules T-1, T-2, and T-3, which the Department is proposing to eliminate. Schedule T-1 is a monthly summarization of the following service classes and data elements:

Service Class Classifications

K—Scheduled Services (F+G)

F—Scheduled Passenger/Cargo

G—Scheduled All-Cargo

V—Nonscheduled Services (L+N+P+R)

L—Nonscheduled Civilian Passenger/Cargo

P—Nonscheduled Civilian Cargo

N—Nonscheduled Military Passenger/Cargo

R—Nonscheduled Military Cargo

Z—All Services (V,K)

Elements | Service class
Air Carrier
Operating Entity
Report Date (Month ended)
Service Class Code | G, L, N, P, R
Aircraft Type Code | N,R
Revenue Passengers Enplaned | L, N
Revenue Passenger-Miles | L,N
Revenue Ton-Miles | G, L, N, P, R
Revenue Ton-Miles-Passenger | L, N
Revenue Ton-Miles-Freight | G, L, N, P, R
Revenue Ton-Miles Mail | G, L, P
Available Ton-Miles | G, L, N, P, R
Available Seat-Miles | L, N
Revenue Aircraft-Miles Flown | G, L, N, P, R
Revenue Aircraft-Miles Scheduled | G
Revenue Aircraft-Departures | G, L, N, P, R
Revenue Aircraft-Hours (airborne) | G, L, N, P, R
Revenue Aircraft-Hours (ramp-to-ramp) | G, L, N, P, R
Schedule T-2 is a quarterly summarization of the following data elements:
Air Carrier
Operating Entity
Report Date (Quarter ended)
Aircraft Type Code | G, Z
Revenue Passenger-Miles | Z
Revenue Ton-Miles | G, Z
Revenue Ton-Miles-Freight | Z
Revenue Ton-Miles-Mail | Z
Available Ton-Miles | G, Z
Available Seat-Miles | Z
Revenue Aircraft-Miles Flown | G, Z
Revenue Aircraft Departures Performed | V, G, Z
Revenue Aircraft-Hours (airborne) | Z
Revenue Aircraft-Hours (ramp-to-ramp) | Z
Total Aircraft Hours (airborne) | Z
Aircraft Days Assigned to Service-Carrier's Equipment | Z
Aircraft Days Assigned to Service-Carrier's Route's | Z
Supplemental Schedule T-3 collects airport activity statistics, which include the following items:
Air Carrier
Operating Entity
Report Date (Quarter ended)
Aircraft Type Code | G, V
Airport Code Revenue Passengers Enplaned | G, V V
Revenue Cargo Tons Enplaned Freight | G, V
Revenue Cargo Tons Enplaned Mail | G, V
Revenue Departures Performed By Aircraft Type | G, V
Revenue Aircraft Departures—Scheduled By Aircraft Type | G

BTS would be able to calculate, using the detailed T-100 nonstop segment and on-flight market records, almost all the data elements that are reported on Schedules T-1, T-2, and T-3. By proposing to collect the data elements of total aircraft hours (revenue aircraft hours plus nonrevenue aircraft hours), aircraft days assigned to service—carrier routes, and aircraft fuels issued (gallons) by aircraft type to the quarterly Form 41 Schedule P-2, BTS would collect all the remaining data items that are currently reported on Schedules T-1, T-2, and T-3. Overall, this should result in a decrease in total U.S. air carrier reporting burden.

For the first time, the Department, the airlines, airports, travelers, and shippers would have traffic flow data for domestic all-cargo and charter operations. Currently, carriers report only enplanement data and operational statistical data for these operations. Because of this, you cannot determine the destination for domestic all-cargo and charter traffic. With the additional data, the FAA and airports would have access to traffic flow information that can be used to enhance the accuracy and reliability of traffic forecasting, asset management, and infrastructre planning.

4. Collecting Traffic Data From Foreign Air Carriers for Small Aircraft Operations

The following parties suggested that BTS collect data from foreign air carrier services operated with regional jets or small aircraft:

Airlines

American Airlines

Continental Airlines

Delta Air Lines

Northwest Airlines

United Parcel Service

US Airways

Airport Operators

Airport Council International-North American (ACI-NA)

The City of Austin

The City of Chicago

Los Angeles World Airports

Metropolitan Washington Airports Authority

Norfolk Airport Authority

Oakland International Airport

The Port Authority of New York & New Jersey

Port of Portland

Wayne County and Detroit Metropolitan Wayne County Airport

Government Agencies

International Trade Administration, Tourism Industries

United States Department of Commerce

United States Postal Service

Aviation Consulting Firms

Back Information Services

Data Base Products

John F. Brown Company

Roberts, Roach and Associates

R.W. Mann & Company

Unisys

Labor Organizations

Allied Pilots Association

Air Line Pilots Association International (ALPA)

Aircraft Manufacturers

Saab

While there were no specific objections raised by the submitted comments against foreign air carriers being required to report small aircraft operations, Air New Zealand, Britannia, Lufthansa, and Qantas all made general comments that the Department should not take any action to increase reporting burden on foreign air carriers. It should be noted that these four carriers do not operate small aircraft to the United States and thus would not be effected by the proposed change in reporting.

Given the proliferation of regional jet aircraft in trans-border Canada service, the current intense level of competition in the marketplace, the maturity of the industry, and the advances in information technology, the absence of data for this segment of the air transportation industry accounts for a significant adverse gap in the Department's ability to perform industry analyses. To close this gap, the Department is proposing to eliminate the provision that allows foreign air carriers to exclude segment and market data for aircraft operations conducted wholly with small aircraft. Currently, foreign air carriers are required to report only operations conducted with large aircraft, which are defined as aircraft with over 60 seats or over 18,000 pounds of payload capacity.

Foreign air carriers have increasingly replaced large aircraft with regional jet aircraft for many trans-border operations. Regional jets now account for a significant number of trans-border enplanements. Regional jets have also replaced large aircraft on some longer haul routes, such as Ottawa-Washington. When regional jets are substituted for large jet aircraft, operations that were once included on Schedule T-100(f) now go unreported further widening the data gap. As the use of the regional jet becomes even more prevalent, the absence of data will increase the volume of market traffic-flow information that is either incomplete or nonexistent.

Air Canada may conduct the highest number of small aircraft operations to the United States. The carrier has communicated to the Department that it is cumbersome to identify and then exclude statistics for small aircraft in their T-100(f) submissions.

The Federal Aviation Administration uses enplanement data for U.S. airports to distribute the annual Airport Improvement Program (AIP) entitlement funds to eligible primary airports. U.S. airports receiving significant service from foreign air carriers operating small aircraft could be receiving less than their fair share of AIP entitlement funds. Collecting Schedule T-100(f) data for small aircraft operations will enable the FAA to more fairly distribute these funds.

The growth of international marketing alliances has created a vital need for more accurate information in the international arena. Virtually all airports use Schedules T-100 and T-100(f) data for ongoing marketing initiatives, traffic forecasting, assessing infrastructure needs, and analyzing competition. Gaps in these data systems could undermine an airport's ability to effectively perform these functions.

5. Small Certificated and Commuter Air Carriers Traffic Reporting

Comments proposing that small certificated and commuter air carriers be placed under the T-100 Reporting System were received from the following parties:

Airlines

American Airlines

Continental Airlines

Delta Air Lines

Northwest Airlines

United Air Lines

United Parcel Service

US Airways

Airport Operators

ACI-NA

The City of Austin

The City of Chicago

Los Angeles World Airports

Metropolitan Washington Airports Authority

Norfolk Airport Authority

Oakland International Airport

The Port Authority of New York & New Jersey

Port of Portland

Wayne County and Detroit Metropolitan Wayne County Airport

Government Agencies

United States Postal Service

United States Department of Defense

Aviation Consulting Firms

Back Information Services

Data Base Products

John F. Brown Company

Roberts, Roach & Associates

R.W. Mann & Company

Unisys

Labor Organizations

ALPA

Allied Pilots Association

Associations

Regional Airline Association

While not specifically supporting T-100 reporting, the Department of Defense strongly recommended that small certificated and commuter air carriers report traffic statistics on a monthly basis.

The Regional Airline Association stated that it believes the current traffic reporting regulations for small certificated and commuter air carriers are out of step with the current operating environment for regional airlines. Form 298-C traffic reporting causes the under-reporting of passenger enplanements.

Because small certificated and commuter air carriers currently report only the points where passengers enter and exit their systems, meaningful enplanement and traffic flow data are lost. For instance, Comair has a hub-and-spoke system with the hub being Cincinnati. There were years when Comair would transport hundreds of thousands of passengers from outlying spoke cities through Cincinnati to other outlying spoke cities. The Form 298-C Schedule T-1 report would correctly show zero enplanements at Cincinnati for these spoke-to-spoke operations, even though the passengers changed flights at Cincinnati. The FAA was unable to use the “official” BTS passenger enplanements at Cincinnati for distributing AIP funds. Cincinnati is not the only airport where enplanements are undercounted. All airports, where small certificated and commuter air carriers have established hub operations, have been adversely affected by undercounted passenger enplanements. Undercounting passenger enplanements at hub airports also makes it difficult for airports to assess their infrastructure needs, and for the FAA and the airports to audit the Passenger Facility Charges that should be remitted to the airports. The non-reporting of intermediate points also makes it difficult to analyze traffic flows and forecast traffic trends.

Small certificated and commuter air carriers now submit Form 298-C Report of Financial and Operating Statistics. Form 298-C is comprised of the following five schedules:

• A-1 Report of Flight and Traffic Statistics in Scheduled Passengers Operations.

• E-1 Report of Nonscheduled Passenger Enplanements by Small Certificated Air Carriers.

• F-1 Report of Financial Data.

• F-2 Report of Aircraft Operating Expenses and Related Statistics.

• T-1 Report of Revenue Traffic by On-Line Origin and Destination.

Small certificated air carriers submit all five schedules. Commuter air carriers submit Schedules A-1, F-1, and T-1. Small certificated air carriers are carriers certificated under 49 U.S.C. § 41102 that operate “small aircraft” with 60 seats or less or 18,000 pounds of payload capacity or less. Commuter air carriers are air taxis that operate at least five round trips a week in scheduled passenger service on at least one route between two or more points using small aircraft.

The Department proposes to eliminate the Form 298-C, Schedules A-1, E-1 and T-1. The nine data elements of Schedule A-1 are:

1. Aircraft Hours Flown

2. Aircraft Miles Flown

3. Available Seat-Miles

4. Revenue Passenger-Miles

5. Available Ton-Miles

6. Revenue Ton-Miles

7. Number of Scheduled Passenger Departures

8. Number of Scheduled Passenger Departures Completed

9. Number of Departures Performed

Schedule E-1 is the source for nonscheduled passenger enplanements by airport. There is no information concerning the destination airport.

Schedule T-1 is the source for an air carrier's on-line origin and destination of its passengers. On-line origin is the airport where a passenger enters a carrier's system. On-line destination is the airport where a passenger exits that carrier's system. Intermediate points or connecting points are not reported under this system.

The Department proposes to replace Form 298-C traffic reporting with T-100 reporting. Under this proposal, the Department would provide small certificated and commuter air carriers with software for T-100 reporting. While carriers would not be required to use the BTS software, they would be required to submit the data in an electronic format that would enable BTS to download the data submission into its data base.

There are a number of advantages that would result from moving small certificated and commuter air carriers to the T-100 system. The proposed reporting changes would result in: (1) A unified traffic reporting system; (2) small certificated and commuter air carriers would report traffic movements for intermediate points; (3) the FAA would have the airport enplanement data it needs for distributing AIP funds, auditing the collection of Passenger Facilities Charges, and forecasting future traffic trends and movements; and (4) airports would have data for analyzing traffic flows and infrastructure needs.

On the downside, on-line origin-destination passenger data would not be available from small certificated and commuter air carriers. Schedule T-100 is designed to track aircraft movements. We would have information on where a passenger got on and off a particular flight rather than where the passenger got on and off a particular carrier's route network. The Passenger Origin-Destination Survey (Survey) compliments the T-100 System by tracking individual passenger itineraries. Form 298-C Schedule T-1 tracks where passengers enter and exit a carrier's route system. Under the proposed reporting, on-line origin-destination data would be lost when a passenger changes flights within a small certificated or a commuter air carriers' route networks. Small certificated and commuter air carriers do not submit Survey data; therefore, origin-destination data would only be available from those passengers that interline onto a carrier that is required to submit Survey data.

Outweighing this downside is the fact that a unified data base of all U.S. air carriers' traffic would be available for the first time. This would simplify traffic data research and analysis. The BTS publications Air Carrier Traffic Statistics Monthly and the annual Airport Activity Statistics of Certificated Air Carriers could easily be expanded to include traffic from small certificated and commuter air carriers. The lack of a combined traffic data base has historically inhibited traffic analyses. This is especially true at the nation's largest airports where small certificated and commuter air carriers provide important feed traffic to the nation's major air carriers.

6. Domestic All-Cargo Carriers To Report Schedule T-100

Another gap in the Department's aviation data base is in the segment of operations conducted by domestic all-cargo carriers that operate under 49 U.S.C 41103. Currently, these carriers submit the annual Form 291-A, Statement of Operations and Statistics Summary for Section 41103 Operators, which has the following data elements:

1. Total Operating Revenues

2. Transport Revenues—Cargo

3. Transport Revenues—Mail

4. Transport-Related Revenues

5. Total Operating Expenses

6. Operating Profit or Loss

7. Net Income

8. Total Revenue Ton-Miles

9. Revenue Ton-Miles Cargo

10. Revenue Ton-Miles Mail

11. Revenue Tons Enplaned

12. Available Ton-Miles

13. Aircraft Miles Flown

14. Aircraft Departures Performed

Section 41103 carriers report no market, segment, or enplanement data by airport. Thus, the Department, the airline industry, airports, and academia have no traffic flow data. This lack of data makes it impossible to analyze traffic flows, conduct traffic forecasts, and make informed decisions regarding asset management and investment. Currently, ABX Air, Inc. d/b/a Airborne Express is the only carrier filing Form 291-A. For the year ended December 31, 2000, ABX reported revenues of over $1,125,000,000 and 392,684 revenue tons of cargo enplaned. If ABX were a large certificated air carrier that files Form 41 financial and traffic data, it would be classified as a major air carrier. The 392,684 revenue tons of cargo enplaned would be allocated to the various affected U.S. airports, which would then be able to access the data necessary to facilitate decisions pertaining to infrastructure investments, planning, operations, management, and policy development. In order to obtain this critical information, the Department proposes to collect Schedule T-100 from all-cargo carriers certificated under 49 USC 41103. At the same time, Form 291-A would be revised to eliminate the following data elements: total revenue ton-miles, revenue ton-miles cargo, revenue ton-miles mail, revenue tons enplaned, available ton-miles, aircraft miles flown, and aircraft departures performed.

The Department also proposes to require domestic all-cargo carriers to report the monthly Schedule P-12(a) Fuel Consumption by Type of Service and Entity. The Environmental Protection Agency (EPA) has identified fuel consumption by domestic all-cargo carriers as a major data gap in its analysis of aviation fuel usage. The collection of Schedule P-12(a) is needed to improve the accuracy of governmental analyses of fuel consumption.

7. Standardized Formats for Electronic Submissions

The Department has encouraged carriers to use advanced information technologies to submit their reports to BTS. To avoid a multitude of file formats that could lead to inefficiencies in processing, this NPRM proposes to adopt a standard length of fields for submission of personal computer (PC) generated reports. The field descriptions and field lengths will be identical to the fields currently prescribed for magnetic tape/cartridge submissions. Submitters would separate fields by using commas or tabs (comma delimited ASCII or tab delimited ASCII format). The Department would accept alternative formats after prior approval of the Bureau of Transportation Statistics Assistant Director—Airline Information.

8. Reporting by Air Taxis of On-Demand Air Charters

The National Air Transportation Association (NATA) stated that there is a definite lack of data on the on-demand air charter industry. The National Transportation Safety Board (NTSB) requested that the Department collect airborne hours, departures, enplanements, and revenue passenger-miles for such operations. The Department agrees with NATA and NTSB that there is a need for data from on-demand operators; however, the Department believes Schedule T-100 is not the appropriate vehicle for collecting this type of information. The Office of Airline Information would not, on a monthly basis, be able to properly edit and process detailed traffic reports from thousands of on-demand operators. Rather, the Department believes there should be a separate rulemaking to address the issue of collecting data from on-demand air taxis.

9. Reporting Schedule T-100 Data by Flight Number

American Airlines commented that the utility of Schedule T-100 data would increase if the data were reported by flight number. While the Department agrees with American, the Department is prohibited by 49 U.S.C. 329(b)(1) from collecting passenger data by flight number. If this law is changed in the future, the Department could revisit this issue.

10. Citizenship Data

There was no unanimity amongst parties on the issue of collecting citizenship data. Airport operators (ACI-NA, Los Angeles, Norfolk, Oakland, Portland and Wayne County), aviation consulting firms (J. F. Brown, Roberts & Roach, R.W. Mann, Unisys), American Airlines, Saab, and the Allied Pilots were all in favor of collecting citizenship data. Opposed to collecting and reporting citizenship data were Air New Zealand, Britannia, Continental, Lufthansa, Northwest, Qantas, United, and the City of Chicago. Delta and US Airways took a neutral position. Both carriers acknowledged that citizenship data are useful information, although US Airways stated that the data were not a critical need for air carriers. Both Delta and US Airways recommended a cost/benefit analysis before proceeding with a rule requiring submission of the data. The other carriers opposed to the submission of citizenship data were concerned with the cost burdens associated with a data base, which they believe would be of limited or no value to the reporting air carriers.

BTS agrees with US Airways' assessment that citizenship data are nice to have but not critical to the Department's needs. Some citizenship data are already collected by other Federal Agencies. Given the strong opposition by some carriers and the costs associated with the collection of citizenship data, BTS is proposing not to collect citizenship data at this time.

11. Cost/Benefit Analysis

Costs

A regulatory evaluation was placed in the Docket OST 98-4043. We welcome comments on the evaluation.

The costs of this proposed rule are the expenses incurred in making the necessary changes to air carrier information gathering systems. These include: (1) The expense for small certificated, commuter, and all-cargo air carriers to report their air traffic activity under the T-100 Traffic Reporting System; (2) the expense to modify U.S. carriers' reporting systems to provide the detailed market and segment information for all their military, domestic all-cargo, and domestic charter flights; (3) the expense to all-cargo air carriers to report monthly traffic and fuel consumption data; and (4) the expense to foreign air carriers to include small aircraft operations to/from the United States in their monthly submissions.

BTS believes the costs mentioned above are minor costs because all the information requested should be readily available to the affected air carriers. Mitigating the cost of compliance to the air carriers is the fact the Department will supply the carriers with T-100 reporting software that carriers may use at their discretion. We request carriers to supply detailed estimates of their projected costs.

Benefits

U.S. carriers would be relieved of the burden of submitting the supplemental Schedules T-1, T-2, and T-3. Small certificated and commuter air carriers would be relieved of the burden of reporting Form 298-C Schedules A-1 and T-1. Small certificated air carriers would be relieved of the burden of reporting Form 298-C Schedule E-1.

The Department, other federal agencies, state and local governments, the airline industry, academia, and the public would benefit from the collection of improved aviation data such as: (1) Detailed segment and market data for domestic all-cargo operations, (2) enplanement statistics for intermediate points served by small certificated and commuter air carriers, (3) detailed segment and market data for small aircraft services operated by foreign air carriers, and (4) fuel consumption data collected from domestic all-cargo carriers.

Rulemaking Analyses and Notices

12. Executive Order 12866 and DOT Regulatory Policies and Procedures

This proposed rule is not considered a significant regulatory action under section 3(f) of Executive Order 12866 and, therefore, is not subject to review by the Office of Management and Budget.

This rule is not considered significant under the regulatory policies and procedures of the Department of Transportation (44 FR 11034). The rule will not result in any unfunded mandate to state, local or tribal governments in the aggregate, or to the private sector, of $100 million or more in any one year. The purpose of the rule is to improve the accuracy and utility of reported traffic data. This objective is achieved by amending 14 CFR 217, 241, 291 and 298 to require market and segment data for all operations and the collection of traffic statistics from operating air carriers.

13. Executive Order 12612

This proposed rule has been analyzed in accordance with the principles and criteria contained in Executive Order 12612 (“Federalism”) and the BTS has determined the rule does not have sufficient federalism implications to warrant the preparation of a Federalism Assessment.

14. Initial Regulatory Flexibility Act Analysis

I certify this proposed rule will not have a significant economic impact on a substantial number of small entities. The Department has classified air carriers operating aircraft with 60 seats or less, or 18,000 pounds or less of payload capacity as small entities. Approximately 90 small air carriers would be impacted by this proposal.

Although the proposed rule amends the reporting requirements for small air carriers, any increase in reporting burden should be minimal. To reduce the impact on small businesses, the Bureau of Transportation Statistics will supply all affected carriers with software to facilitate their reporting of the required traffic data; and the Form 298-C traffic schedules will be eliminated. The Department recognizes that most changes in reporting formats generally cause an initial increase in reporting burden due to a need to familiarize staff with a revised reporting system. After carrier staff become proficient with the new software, carrier reporting burden may be less under the T-100 System than if carriers continued to file Form 298-C traffic reports.

The Regional Airline Association (RAA), which represents small airline companies, has commented that the current traffic reporting system for small operators is both inappropriate and inconsistent. We believe that this proposal addresses RAA's concerns. The Department welcomes RAA's comments, along with those of small operators, on the proposal.

15. National Environmental Protection Act

The Bureau of Transportation Statistics has analyzed the proposed amendments for the purpose of the National Environmental Protection Act. The proposed amendments will not have any impact on the quality of human environment.

16. Initial Paperwork Reduction Act Analysis

The reporting and recordkeeping requirements associated with this proposed rule are being sent to the Office of Management and Budget in accordance with 44 U.S.C. Chapter 35 under OMB No: 2138-0040. Administration: Bureau of Transportation Statistics; Title: Report of Traffic and Capacity Statistics—The T-100 System; Need for Information: Statistical information on airline passenger movements; Proposed Use of Information: Balance of benefits analyses for international agreements, assignment of passenger enplanements to proper airport and monitoring adequacy of air service to small communities; Frequency: Monthly; Burden Estimate: 25,000 annual hours; Average Annual Burden Hours per Respondent After Reprogramming Is Completed—70. For further information contact: The Office of Information and Regulatory Affairs, Office of Management and Budget, Room 10235, New Executive Office Building, Washington, D.C. 20503, Attention Desk Office for the Department of Transportation or Bernie Stankus at the address listed under for FURTHER INFORMATION CONTACT.

17. Regulation Identifier Number

A regulation identifier number (RIN) is assigned to each regulatory action listed in the Unified Agenda of Federal Regulations. The Regulatory Information Service Center publishes the Unified Agenda in April and October of each year. The RIN number 2139-AA08 contained in the heading of this document can be used to cross reference this action with the Unified Agenda.

List of Subjects

14 CFR Part 217

Air carriers, Reporting and recordkeeping requirements.

14 CFR Part 241

Air carriers, Reporting and recordkeeping requirements, Uniform System of Accounts.

14 CFR Part 291

Administrative practice and procedure, Air carriers, Freight, Reporting and recordkeeping requirements.

14 CFR Part 298

Air taxis, Reporting and recordkeeping requirements.

Notice of Proposed Rulemaking

Accordingly, the Bureau of Transportation Statistics, under delegated authority pursuant to 49 CFR part 1, proposes to amend chapter H of 14 CFR, as follows:

PART 217—[AMENDED]

1. The authority citation for Part 217 would continue to read as follows:

Authority: 49 U.S.C. 329 and chapters 41301, 41310, 41708.

2. Section 217.1 would be amended by removing the definitions for Large Aircraft and Small Aircraft, and by adding the following definitions in alphabetical order.

§ 217.1 Definitions.

* * * * *

Reporting carrier for T-100(f) purposes means the air carrier in operational control of the flight, i.e., the carrier that uses its flight crews under its own operating authority.

* * * * *

Wet-Lease Agreement means an agreement under which one carrier leases an aircraft with flight crew to another air carrier.

3. Section § 217.2 would be revised to read as follows:

§ 217.2 Applicability.

This part applies to foreign air carriers that are authorized by the Department to provide civilian passenger and/or cargo service to or from the United States, whether performed pursuant to a permit or exemption authority.

4. Appendix to § 217.10 would be amended as follows:

a. Revise paragraph (a)(2);

b. Revise paragraph (f)(1)(i);

c. Revise paragraph (g)(1)(ii); and

d. Revise paragraph (i)(2).

The revisions read as follows:

Appendix to Section 217.10 of 14 CFR Part 217—Instructions to Foreign Air Carriers for Reporting Traffic Data on Form 41 Schedule T-100(F)

(a) * * *

(2) Applicability. Each foreign air carrier holding a § 41302 permit or exemption authority shall file Schedule T-100(f).

* * * * *

(f) * * *

(1) * * *

(i) Reporting medium. ADP data submission must be on IBM compatible disks. Carriers using mainframe or minicomputers shall download (transcribe) to the required IBM compatible disk. Carriers wishing to use a different ADP procedure or e-mail must obtain written approval to do so from the BTS Assistant Director—Airline Information under the waiver provisions in 217.9. Request for approval to use alternative methods must disclose the proposed data transmission methodology.

* * * * *

(g) * * *

(1) * * *

(ii) Line A-2 Report date. This is the year and month to which the data are applicable. For example, 200009 indicates the year 2000, and the month of September.

* * * * *

(i) * * *

(2) Joint-service operations shall be reported on BTS Form 41 Schedules T-100 and T-100(f) by the air carrier in operational control of the flight, i.e., the air carrier that uses its flight crew to perform the operation. If there are questions about reporting a joint-service operation, contact the BTS Assistant Director—Airline Information at the address in paragraph (a)(3) of this appendix.

* * * * *

5. Section 217.11 would be amended by revising paragraph (a) to read as follows:

§ 217.11 Reporting Compliance.

(a) Failure to file reports required by this part will subject an air carrier to civil and criminal penalties prescribed in Title 49 United States Code Section 46301.

* * * * *

PART 241—[AMENDED]

6. The authority citation for part 241 would be revised to read as follows:

Authority: 49 U.S.C. 329 and chapters 41101 and 41708.

7. Part 241, Section 03 would be amended by adding in alphabetical order the following definitions to read as follows:

Section 03 Definitions for Purposes of This System of Accounts and Reports

Reporting carrier for T-100 purposes means the air carrier in operational control of the flight, i.e., the carrier that uses its flight crews under its own FAA operating authority.

* * * * *

Wet-Lease Agreement means an agreement under which one carrier leases an aircraft with flight crew to another air carrier.

8. Part 241, Section 19-1 would be amended by revising paragraphs (a) and (c) to read as follows:

Section 19 * * *

Section 19-1 Applicability

(a) United States air carrier. Each large certificated U.S. air carrier shall file with the Department, on a monthly basis, Form 41 Schedule T-100 “U.S. Air Carrier Traffic and Capacity Data By Nonstop Segment and On-flight Market,” and summary data as prescribed in this section and in sections 22 and 25 of this part.

* * * * *

(c) Each U.S. air carrier shall use magnetic computer tape or IBM compatible disk for transmitting the prescribed data to the Department. Upon good cause shown, OAI may approve the request of a U.S. air carrier, under section 1-2 of this part, to use hardcopy data input forms or submit data via e-mail.

* * * * *

9. Part 241, Section 19-3 would be amended by removing and reserving paragraph (b).

10. Part 241, Section 19-5 would be amended by revising paragraph (b) to read as follows:

Section 19-5 Air Transport Traffic and Capacity Elements

* * * * *

Code | Description | Segment | Market
| Carrier, carrier entity code | S | M
| Reporting period date | S | M
| Origin airport code | S | M
| Destination airport code | S | M
| Service class code | S | M
| Aircraft type code | S
110 | Revenue passengers enplaned |  | M
130 | Revenue passengers transported | S
140 | Revenue passenger-miles |  | Computed by BTS
210 | Revenue cargo tons enplaned |  | Computed by BTS
217 | Enplaned freight |  | M
219 | Enplaned mail |  | M
230 | Revenue tons transported |  | Computed by BTS
237 | Transported freight | S
239 | Transported mail | S
240 | Revenue ton-miles |  | Computed by BTS
241 | Revenue ton-miles passenger |  | Computed by BTS
247 | Revenue ton-miles freight |  | Computed by BTS
249 | Revenue ton-miles mail |  | Computed by BTS
270 | Available capacity payload | S
280 | Available ton-miles |  | Computed by BTS
310 | Available seats, total | S
320 | Available seat-miles |  | Computed by BTS
410 | Revenue aircraft miles flown |  | Computed by BTS
430 | Revenue aircraft miles scheduled |  | Computed by BTS
501 | Inter-airport distance |  | Computed by BTS
510 | Revenue aircraft departures performed | S
520 | Revenue aircraft departures scheduled | S
610 | Revenue aircraft hours (airborne) | S
630 | Aircraft hours (ramp-to-ramp) | S
650 | Total aircraft hours (airborne) | S

* * * * *

11. In Part 241, Section 22:

a. The “List of Schedules in BTS Form 41 Report” would be amended by removing Schedules “T-1”, “T-2”, and “T-3” and by revising “(1)” to read “x” for Schedule “P-2” in column I of Applicability by carrier group.

b. The chart of DUE DATES OF SCHEDULES IN BTS FORM 41 REPORT would be amended by removing Schedules “T-1”, “T-2”, and “T-3”, wherever they appear.

12. In Part 241, Section 24, “Schedule P-2—Notes to BTS Form 41 Report” would be amended by revising paragraph (a) and adding paragraph (f) to read as follows:

Section 24 Profit and Loss Elements

Schedule P-2—Notes to BTS Form 41 Report

(a) This schedule shall be filed quarterly by all Group I, II, and III air carriers.

* * * * *

(f) Each air carrier shall submit, by aircraft type, the total number of aircraft hours operated (revenue and nonrevenue), the total amount of aircraft fuels issued (U.S. gallons), and the number of aircraft days assigned to service-carrier's routes.

* * * * *

13. Part 241, Section 25 would be amended as follows:

a. By revising paragraph (b); and

b. By removing the subsections, “Schedule T-1 U.S. Air Carrier Traffic and Capacity Summary-By Service Class”, “Schedule T-2 U.S. Air Carrier Traffic and Capacity Statistics-By Aircraft Type”, and “Schedule T-3 U.S. Air Carrier Airport Activity Statistics”;

c. In subsection “Schedule T-100 U.S. Air Carrier Traffic and Capacity Data By Nonstop Segment and On-Flight Market”, paragraph (a) would be revised and paragraph (d) would be added.

The revisions and additions read as follows:

Section 25 Traffic and Capacity Elements

* * * * *

(b) Carriers submitting Schedule T-100 shall use magnetic computer tape or IBM compatible disk for transmitting the prescribed data to the Department. Upon good cause shown, OAI may approve the request of a U.S. air carrier, under section 1-2 of this part, to use hardcopy data input forms or submit data via e-mail.

* * * * *

Schedule T-100 U.S. Air Carrier Traffic and Capacity Data by Nonstop Segment and On-Flight Market

(a) Schedule T-100 collects detailed on-flight market and nonstop segment data on all revenue flights flown by U.S. certificated air carriers. This schedule is filed monthly. Separate data shall be reported for each operating entity (Latin America, Atlantic, Pacific; International, or Domestic) of the air carrier in the five digit entity code prescribed under section 19-5(c) of this part.

* * * * *

(d) Joint-service operations. The air carrier in operational control of the aircraft (the carrier that uses its flight crews under its own FAA operating authority) must report joint-service operations.

14. The appendix to Section 241.25 of CFR Part 241, would be revised to read as follows:

Appendix to § 241.25 of CFR Part 241 Instructions to U.S. Air Carriers for Reporting Traffic and Capacity Data on Form 41 Schedule T-100

(a) Applicability. Each large U.S. air carrier that holds a 49 U.S.C. 41102 certificate must file the monthly Schedule T-100.

(b) Schedules, frequency, and entity: Schedule T-100 collects summarized flight stage data by reporting entity for scheduled and nonscheduled passenger, and cargo operations. The term entity refers to the geographic location designator prescribed by the Department in § 241.19-5(c)(2). Thus, domestic entity operations are distinguished from international entity operations.

(c) Format of reports:

(1) Automatic Data Processing (ADP) magnetic tape. Refer to paragraph (f) of this appendix for instructions pertaining to mainframe and minicomputer reporting. The Department will issue “Accounting and Reporting Directives” to make necessary technical changes to these T-100 instructions, where no policy issues are involved that would require a new rulemaking, or where only a few air carriers are affected.

(2) Microcomputer diskette.

(i) Optional specification. If an air carrier desires to use its personal computers (PC's), rather than mainframe or minicomputers to prepare its data submissions, the following specifications for filing data on diskette media apply:

(ii) Reporting medium. Microcomputer ADP data submission of T-100 information must be on IBM compatible disks. Carriers wishing to use a different ADP procedure must obtain written approval to do so from the BTS Assistant Director—Airline Information. Requests for approval to use alternate methods must disclose the proposed data transmission methodology. Refer to paragraph (k) of this appendix for microcomputer record layouts.

(iii) Microcomputer file characteristics. The files will be created in ASCII delimited format, sometimes called Data Interchange Format (DIF). This form of recording data provides for variable length fields (data elements) which, in the case of alphabetic data, are enclosed by quotation marks (“) and separated by a comma (,) and numeric data elements that are recorded without editing symbols are also separated by a comma (,). The data are identified by its juxtaposition within a given record. Therefore, each record must contain the exact number of data elements, all of which must be juxtapositionally correct. Personal computer software including most spreadsheets, data base management programs, and BASIC are capable of producing files in this format.

(d) Filing date for reports. The reports must be received at BTS within 30 days following the end of each reporting period.

(e) Address for filing: Data Administration Division, K-25, Room 4125, Office of Airline Information, Bureau of Transportation Statistics, U.S. Department of Transportation, 400 Seventh Street SW., Washington, DC 20590-0001.

(f) ADP format for magnetic tape: Magnetic tape specifications. IBM compatible 9-track EBCDIC recording. Recording density of 6250 or 1600 bpi. The order of recorded information is:

(1) Volume label.

(2) Header label.

(3) Data records.

(4) Trailer label.

(g) External tape label information.

(1) Carrier name.

(2) Report date.

(3) File identification.

(4) Carrier address for return of tape reel.

(h) Standards. It is the policy of the Department to be consistent with the American National Standards Institute and the Federal Standards activity in all data processing and telecommunications matters. It is our intention that all specifications in this application are in compliance with standards promulgated by these organizations.

(i) Volume, header, and trailer label formats: Use standard IBM label formats. The file identifier field of the header labels should be “T-100.SYSTEM”.

(j) Magnetic tape record layouts for T-100.

(1) Nonstop segment record layout:

Field No. | Positions | Mode | Description
1 | 1 | 1A | Record type code (S = nonstop segment).
2 | 2-6 | 5A/N | Carrier entity code.
3 | 7-12 | 6N | Report date (YYYYMM).
4 | 13-15 | 3A | Origin airport code.
5 | 16-18 | 3A | Destination airport code.
6 | 19 | 1A | Service class code (F, G, L, N, P or R).
7 | 20-23 | 4N | Aircraft type code.
8 | 24-28 | 5N | Revenue departures performed (F, G, L, N, P, R510).
9 | 29-38 | 10N | Available capacity payload (lbs) (F, G, L, N, P, R270).
10 | 39-45 | 7N | Available seats (F, L, N310).
11 | 46-52 | 7N | Passengers transported (F, L, N130).
12 | 53-62 | 10N | Rev freight transported (F, G, L, N, P, R237) (in lbs).
13 | 63-72 | 10N | Revenue mail transported (F, G, L, N, P, R239) (in lbs).
14 | 73-77 | 5N | Revenue aircraft departures scheduled (F, G520).
15 | 78-87 | 10N | Rev hrs, ramp-to-ramp (F, G, L, N, P, R630) (in minutes).
16 | 88-97 | 10N | Rev hrs, airborne (F, G, L, N, P, R610)(in minutes).

(2) On-flight market record layout:

Field No. | Positions | Mode | Description
1 | 1 | 1A | Record type: M = on-flight market record.
2 | 2-6 | 5A/N | Carrier entity code.
3 | 7-12 | 4N | Report date (YYYYMM).
4 | 13-15 | 3A | Origin airport code.
5 | 16-18 | 3A | Destination airport code.
6 | 19 | 1A | Service class code (F, G, L, N, P or R).
7 | 20-26 | 7N | Total passengers in market (F, L, N110).
8 | 27-36 | 10N | Rev freight in market (F, G, L, N, P, R217) (in lbs).
9 | 37-46 | 10N | Revenue mail in market (F, G, L, N, P, R219) (in lbs).

(k) Record layouts for microcomputer diskettes. The record layouts for diskettes are generally identical to those shown for magnetic tape, with the exception that delimiters (quotation marks and commas) are used to separate fields. It is necessary that the order of fields be maintained in all records.

(1) File characteristics. The files will be created in ASCII delimited format, sometimes called Data Interchange Format (DIF). This form of recording data provides for variable length fields (data elements) which, in the case of alphabetic data, are enclosed by quotation marks (“) and separated by a comma (,) and numeric data elements that are recorded without editing symbols are also separated by a comma (,). The data are identified by their juxtaposition within a given record. Therefore, it is critical that each record contain the exact number of data elements, all of which must be juxtapositionally correct. PC software including most spreadsheets, data base management programs, and BASIC produce minidisks files in this format.

(2) File naming conventions for diskettes. For microcomputer reports, each record type should be contained in a separate DOS file on the same physical diskette. The following DOS naming conventions should be followed:

Record type S = SEGMENT.DAT

Record type M = MARKET.DAT

(l) Discussion of reporting concept. Schedule T-100 collects summarized flight stage data and on-flight market data. All traffic statistics shall be compiled in terms of each revenue flight stage as actually performed. The detail T-100 data shall be maintained in such a manner as to permit monthly summarization and organization into two basic groupings. The first grouping, the nonstop segment information, is to be summarized by equipment type, within class of service, within pair-of-points, without regard to individual flight number. The second grouping requires that the enplanement/deplanement information be broken out into separate units called on-flight market records, which shall be summarized by class of service, within pair-of-points, without regard for equipment type or flight number.

(m) Joint Service: Joint-service operations. The Department may authorize joint-service operations between two direct air carriers. Examples of these joint service-operations are: blocked-space agreements; part-charter agreements; code-sharing agreements; wet-lease agreements, and other similar arrangements.

(1) Joint-service operations are reported by the carrier in operational control of the flight, i.e., the carrier that uses its flight crews under its own FAA operating authority. The traffic moving under these agreements is reported on Schedule T-100 the same way as any other traffic on the aircraft.

(2) If there are questions about reporting a joint-service operation, contact the BTS Assistant Director—Airline Information (fax no. 202 366-3383, telephone no. 202 366-4373). Joint-service operations are reported in Schedule T-100 within the following guidelines:

(3) Operational control. The air carrier in operational control of the aircraft (the carrier that uses its flight crews under its own FAA operating authority) must report joint-service operations.

(n) Glossary of data elements. § 241.19-5 and § 241.03.

PART 291—[AMENDED]

15. The authority citation for Part 291 would be revised to read as follows:

Authority: 49 U.S.C. 329 and chapters 41102, 41103 and 41708.

16. Section 291.2 would be amended by adding the following definitions in alphabetical order to read as follows:

§ 291.2 Definitions.

* * * * *

Reporting carrier for Schedule T-100 purposes means the air carrier in operational control of the aircraft, i.e., the carrier that uses its flight crews under its own FAA operating authority.

* * * * *

Wet-Lease Agreement means an agreement under which one carrier leases an aircraft with flight crew to another air carrier.

17. Section 291.42 would be amended by revising the section heading and paragraph (a) to read as follows:

§ 291.42 Section 41103 financial and traffic reporting.

(a) General instructions. Carriers operating under section 41103 certificates that are not subject to part 241 of this chapter shall file Form 291-A, Statement of Operations for Section 41103 operations, Schedule T-100, U.S. Air Carrier Traffic and Capacity Data by Nonstop Segment and On-Flight Market, and Schedule P-12(a), Fuel Consumption by Type of Service and Entity with the Department's Bureau of Transportation Statistics (BTS).

(1) A single copy of the BTS Form 291-A report shall be filed annually with the Office of Airline Information (OAI) for the year ended December 31, to be received on or before February 10. A single copy of the monthly BTS Schedule P-12(a) is due at OAI within 20 days after the end of each month. An electronic filing of the monthly Schedule T-100 is due at OAI within 30 days after the end of each month. Due dates falling on a Saturday, Sunday or national holiday will become effective on the first following working day.

(2) Reports required by this section shall be filed at the Office Airline Information, K-25, Room 4125, U.S. Department of Transportation, 400 Seventh Street, SW., Washington, DC 20590-0001.

* * * * *

18. A new § 291.43 would be added to subpart E to read as follows:

§ 291.43 Statement of Operations for Section 41103 Operations.

Form 291-A contains the following data elements:

(a) Total operating revenue, categorized as follows:

(1) Transport revenues from the carriage of property in scheduled and nonscheduled service;

(2) Transport revenue from the carriage of mail in scheduled and nonscheduled service; and

(3) Transport-related revenues;

(b) Total operating expenses;

(c) Operating profit or loss, computed by subtracting the total operating expenses from the total operating revenues; and

(d) Net income, computed by subtracting the total operating and nonoperating expenses, including interest expenses and income taxes, from the total operating and nonoperating revenues.

19. A new § 291.44 would be added to subpart E to read as follows:

§ 291.44 BTS Schedule P-12(a), Fuel Consumption by Type of Service and Entity.

(a) For the purposes of Schedule P-12(a), type of service shall be either scheduled service or nonscheduled service as those terms are defined in § 291.45(c)(2) and (3).

(b) For the purpose of Schedule P-12(a), scheduled service shall be reported separately for:

(1) Intra-Alaskan operations;

(2) Domestic operations, which shall include all operations within and between the 50 States of the United States (except Intra-Alaska), the District of Columbia, the Commonwealth of Puerto Rico and the United States Virgin Islands, or a U.S. territory or possession to a place in any State of the United States.

(c) For the purpose of Schedule P-12(a), nonscheduled service shall be reported separately for domestic operations and international operations as defined in paragraph (b) of this section, except that domestic and international Military Air Command (MAC) operations shall be reported on separate lines.

(d) The cost data reported on each line shall represent the average cost of fuel, as determined at the station level, consumed in that entity.

(e) The cost of fuel shall include shrinkage but exclude:

(i) “Throughput” and “in to plane” fees, i.e., service charges or gallonage levies assessed by or against the fuel vendor or concessionaire and passed on to the carrier in a separately identifiable form; and

(ii) Nonrefundable Federal and State excise taxes. However, “through-put” and “in to plane” charges that cannot be identified or segregated from the cost of fuel shall remain a part of the cost of fuel as reported on this schedule.

(f) Each air carrier shall maintain records for each station showing the computation of fuel inventories and consumption for each fuel type. The periodic average cost method shall be used in computing fuel inventories and consumption. Under this method, an average unit cost for each fuel type shall be computed by dividing the total cost of fuel available (Beginning Inventory plus Purchases) by the total gallons available. The resulting unit cost shall then be used to determine the ending inventory and the total consumption costs to be reported on this schedule.

(g) Where amounts reported for a specific entity include other than Jet A fuel, a footnote shall be added indicating the number of gallons and applicable costs of such other fuel included in amounts reported for that entity.

(h) Where any adjustment(s) recorded on the books of the carrier results in a material distortion of the current month's schedule, carriers shall file a revised Schedule P-12(a) for the month(s) affected.

20. A new § 291.45 would be added to subpart E to read as follows:

§ 291.45 BTS Schedule T-100, U.S. Air Carrier Traffic and Capacity Data by Nonstop Segment and On-Flight Market.

(a) Each section 41103 all-cargo air carrier shall file Schedule T-100, U.S. Air Carrier Traffic and Capacity Data by Nonstop Segment and On-Flight Market.

(b) Schedule T-100 shall be filed monthly.

(1) Schedule T-100 collects summarized flight stage data and on-flight market data for revenue flights. All traffic statistics shall be compiled in terms of each flight stage as actually performed. The detail T-100 data shall be maintained in such a manner as to permit monthly summarization and organization into two basic groupings. First, the nonstop segment information which is to be summarized by equipment type, within class of service, within pair-of-points, without regard to individual flight number. The second grouping requires that the enplanement/deplanement information be broken out into separate units called on-flight market records, which shall be summarized by class of service, within pair-of-points, without regard for equipment type or flight number.

(2) Joint-service operations. The Department may authorize joint-service operations between two direct air carriers. Examples of these joint-service operations are: blocked-space agreements; part-charter agreements; code-sharing agreements; wet-lease agreements; and similar arrangements.

(i) Joint-service operations are reported by the carrier in operational control of the flight, i.e., the carrier that uses its flight crews under its own FAA operating authority. The traffic moving under these agreements is reported on Schedule T-100 the same way as any other traffic on the aircraft.

(ii) If there are questions about reporting a joint-service operation, contact the BTS Assistant Director—Airline Information (fax no. 202 366-3383, telephone no. 202 366-4373). Joint-service operations are reported in Schedule T-100 within the following guidelines:

(iii) Operational control. The air carrier in operational control of the aircraft (the carrier that uses its flight crews under its own FAA operating authority) must report joint services.

(c) Service classes. (1) The statistical classifications are designed to reflect the operating characteristics attributable to each distinctive type of service offered. The combination of scheduled and nonscheduled operations with passenger, all-cargo, and military services are placed into service classes as follows:

Code | Type of service
F | Scheduled Passenger/Cargo.
G | Scheduled All-Cargo.
L | Nonscheduled Civilian Passenger/Cargo.
N | Nonscheduled Military Passenger/Cargo.
P | Nonscheduled Civilian Cargo.
R | Nonscheduled Military Cargo.

(2) Scheduled services include traffic and capacity elements applicable to air transportation provided pursuant to published schedules and extra sections of scheduled flights. Scheduled Passenger/Cargo (Service Class F) is a composite of first class, coach, and mixed passenger/cargo service.

(3) Nonscheduled services include all traffic and capacity elements applicable to the performance of nonscheduled aircraft charters, and other air transportation services not constituting an integral part of services performed pursuant to published flight schedules.

(d) Air transport traffic and capacity elements.

(1) Within each of the service classifications, carriers shall report air transport traffic and capacity elements. The reported elements with a BTS numeric code are in the following chart. The elements are reported on segment or market records as follows:

Code | Description | Segment | Market
| Carrier, carrier entity code | S | M
| Reporting period date | S | M
| Origin airport code | S | M
| Destination airport code | S | M
| Service class code | S | M
| Aircraft type code | S
110 | Revenue passengers enplaned |  | M
130 | Revenue passengers transported | S
140 | Revenue passenger-miles |  | Computed by BTS
210 | Revenue cargo tons enplaned |  | Computed by BTS
217 | Enplaned freight |  | M
219 | Enplaned mail |  | M
230 | Revenue tons transported |  | Computed by BTS
237 | Transported freight | S
239 | Transported mail | S
240 | Revenue ton-miles |  | Computed by BTS
241 | Revenue ton-miles passenger |  | Computed by BTS
247 | Revenue ton-miles freight |  | Computed by BTS
249 | Revenue ton-miles mail |  | Computed by BTS
270 | Available capacity payload | S
280 | Available ton-miles |  | Computed by BTS
310 | Available seats, total | S
320 | Available seat-miles |  | Computed by BTS
410 | Revenue aircraft miles flown |  | Computed by BTS
430 | Revenue aircraft miles scheduled |  | Computed by BTS
501 | Inter-airport distance |  | Computed by BTS
510 | Revenue aircraft departures performed | S
520 | Revenue aircraft departures scheduled | S
610 | Revenue aircraft hours (airborne) | S
630 | Aircraft hours (ramp-to-ramp) | S
650 | Total aircraft hours (airborne) | S

(2) [Reserved]

(e) The reported elements are further described as follows:

(1) Reporting period date. The year and month to which the reported data are applicable.

(2) Carrier, Carrier entity code. Each air carrier shall report its name and entity code (a five digit code assigned by BTS that identifies both the carrier and its entity) for its particular operations. The Office of Airline Information (OAI) will assign or confirm codes upon request; OAI's address is OAI, Bureau of Transportation Statistics, DOT Room 4125, K-25, 400 Seventh Street, SW., Washington, DC 20590-0001.

(3) Service class code. The service class codes are prescribed in § 298.61(c) of this chapter. In general, classes are divided into two broad categories, either scheduled or nonscheduled, where scheduled = F + G and nonscheduled = L + N + P + R.

(4) Record type code. This code indicates whether the data pertain to non-stop segment (record type S) or on-flight market (record type M).

(5) Aircraft type code. This code represents the aircraft types, as described in the BTS' Accounting and Reporting Directives.

(6) Origin, Destination airport code(s). These codes represent the industry designators. An industry source of these industry designator codes is the Official Airline Guide (OAG). OAI assigns codes, upon request, if not listed in the OAG.

(7) 110 Revenue passengers enplaned. The total number of revenue passengers enplaned at the origin point of a flight, boarding the flight for the first time; an unduplicated count of passengers in a market. Under the T-100 system of reporting, these enplaned passengers are the sum of the passengers in the individual on-flight markets. In the domestic entity, report only the total revenue passengers enplaned in item 110. Nonscheduled revenue passengers enplaned are reported in item 110.

(8) 130 Revenue passengers transported. The total number of revenue passengers transported over a single flight stage, including those already on the aircraft from a previous flight stage. In the domestic entity, report only the total revenue passengers transported in item 130. Nonscheduled revenue passengers transported are reported in item 130.

(9) 140 Revenue passenger-miles. Computed by multiplying the inter-airport distance of each flight stage by the number of passengers transported on that flight stage.

(10) 210 Revenue cargo tons enplaned. The total number of cargo tons enplaned. This data element is a sum of the individual on-flight market figures for each of the following categories: 217 Freight and 219 Mail. This element represents an unduplicated count of the revenue traffic in a market.

(11) 230 Revenue tons transported. The number of tons of revenue traffic transported. This element is the sum of the following elements: 231 Passengers transported-total, 237 Freight, and 239 Mail.

(12) 240 Revenue ton-miles—total. Ton-miles are computed by multiplying the revenue aircraft miles flown (410) on each flight stage by the number of tons transported on that stage. This element is the sum of 241 through 249.

(13) 241 Revenue ton-miles—passenger. Equals the number of passengers times 200, times inter-airport distance, divided by 2000. A standard weight of 200 pounds per passenger, including baggage, is used for all operations and service classes.

(14) 247 Revenue ton-miles—freight. Equals the volume of freight in whole tons times the inter-airport distance.

(15) 249 Revenue ton-miles—mail. Equals the volume of mail in whole tons times the inter-airport distance.

(16) 270 Available capacity-payload. The available capacity is collected in pounds. This figure shall reflect the payload or total available capacity for passengers, mail and freight applicable to the aircraft with which each flight stage is performed.

(17) 280 Available ton-miles. The aircraft miles flown on each flight stage multiplied by the available capacity on the aircraft in tons.

(18) 310 Available seats. The number of seats available for sale. This figure reflects the actual number of seats available, excluding those blocked for safety or operational reasons. In the domestic entity, report the total available seats in item 130. Nonscheduled available seats are reported in item 130.

(19) 320 Available seat-miles. The aircraft miles flown on each flight stage multiplied by the seat capacity available for sale.

(20) 410 Revenue aircraft miles flown. Revenue aircraft miles flown are computed based on the airport pairs between which service is actually performed; miles are generated from the data for scheduled aircraft departures (Code 520) times the inter-airport distances (Code 501).

(21) 430 Revenue aircraft miles scheduled. The number of revenue aircraft miles scheduled. All such data shall be maintained in conformity with the airport pairs between which service is scheduled, whether or not in accordance with actual performance.

(22) 501 Inter-airport distance. The great circle distance, in official statute miles as prescribed in part 247 of this chapter, between airports served by each flight stage. Official inter-airport mileage may be obtained from the Office of Airline Information.

(23) 510 Revenue aircraft departures performed. The number of revenue aircraft departures performed.

(24) 520 Revenue aircraft departures scheduled. The number of revenue aircraft departures scheduled, whether or not actually performed.

(25) 610 Revenue aircraft hours (airborne). The elapsed time, computed from the moment the aircraft leaves the ground until its next landing.

(26) 630 Aircraft hours (ramp-to-ramp). The elapsed time, computed from the moment the aircraft first moves under its own power from the boarding ramp at one airport to the time it comes to rest at the ramp for the next point of landing. This data element is also referred to as “block” and “block-to-block” aircraft hours.

(27) 650 Total aircraft hours (airborne). The elapsed time, computed from the moment the aircraft leaves the ground until it touches down at the next landing. This includes flight training, testing, and ferry flights.

(f) Public availability of Schedule T-100 data. Detailed domestic on-flight market and nonstop segment data in Schedule T-100 shall be publicly available after processing. Domestic data are defined as data from air transportation operations from a place in any State of the United States, the District of Columbia, the Commonwealth of Puerto Rico and the Virgin Islands, or a U.S. territory or possession to a place in any State of the United States, the District of Columbia, the Commonwealth of Puerto Rico and the Virgin Islands, or a U.S. territory or possession.

21. A new appendix to § 291.45 would be added to read as follows:

APPENDIX to § 291.45—Instructions to U.S. Air Carriers for Reporting Traffic and Capacity Data on Schedule T-100

(a) Format of reports:

(1) Automatic Data Processing (ADP) magnetic tape. Refer to paragraph (d) of this appendix for instructions pertaining to mainframe and minicomputer reporting. The Department will issue “Accounting and Reporting Directives” to make necessary technical changes to these T-100 instructions, where no policy issues are involved that would require a new rulemaking, or where only a few air carriers are affected.

(2) Microcomputer diskette.

(i) Optional specification. If an air carrier desires to use its personal computers (PC's), rather than mainframe or minicomputers to prepare its data submissions, the following specifications for filing data on diskette media apply.

(ii) Reporting medium. Microcomputer ADP data submission of T-100 information must be on IBM compatible disks. Carriers wishing to use a different ADP procedure must obtain written approval to do so from the BTS Assistant Director—Airline Information. Requests for approval to use alternate methods must disclose the proposed data transmission methodology. Refer to paragraph (i) of this appendix for microcomputer record layouts.

(iii) Microcomputer file characteristics. The files will be created in ASCII delimited format, sometimes called Data Interchange Format (DIF). This form of recording data provides for variable length fields (data elements) which, in the case of alphabetic data, are enclosed by quotation marks (“”) and separated by a comma (,) and numeric data elements that are recorded without editing symbols are also separated by a comma (,). The data are identified by their juxtaposition within a given record. Therefore, each record must contain the exact number of data elements, all of which must be juxtapositionally correct. Personal computer software including most spreadsheets, data base management programs, and BASIC are capable of producing files in this format.

(b) Filing date for reports. The reports must be received at BTS within 30 days following the end of each reporting period.

(c) Address for filing: Data Administration Division, K-25, Room 4125, Office of Airline Information, Bureau of Transportation Statistics, U.S. Department of Transportation, 400 Seventh Street SW., Washington, DC 20590-0001.

(d) ADP format for magnetic tape: Magnetic tape specifications. IBM compatible 9-track EBCDIC recording. Recording density of 6250 or 1600 bpi. The order of recorded information is:

(1) Volume label.

(2) Header label.

(3) Data records.

(4) Trailer label.

(e) External tape label information.

(1) Carrier name.

(2) Report date.

(3) File identification.

(4) Carrier address for return of tape reel.

(f) Standards. It is the policy of the Department to be consistent with the American National Standards Institute and the Federal Standards activity in all data processing and telecommunications matters. It is our intention that all specifications in this application are in compliance with standards promulgated by these organizations.

(g) Volume, header, and trailer label formats: Use standard IBM label formats. The file identifier field of the header labels should be “T-100.SYSTEM”.

(h) Magnetic tape record layouts for T-100.

(1) Nonstop segment record layout:

Field No. | Positions | Mode | Description
1 | 1 | 1A | Record type code (S = nonstop segment).
2 | 2-6 | 5A/N | Carrier entity code.
3 | 7-12 | 6N | Report date (YYYYMM).
4 | 13-15 | 3A | Origin airport code.
5 | 16-18 | 3A | Destination airport code.
6 | 19 | 1A | Service class code (F, G, L, N, P or R).
7 | 20-23 | 4N | Aircraft type code.
8 | 24-28 | 5N | Revenue departures performed (F, G, L, N, P, R510).
9 | 29-38 | 10N | Available capacity payload (lbs) (F, G, L, N, P, R270).
10 | 39-45 | 7N | Available seats (F, L, N310).
11 | 46-52 | 7N | Passengers transported (F, L, N130).
12 | 53-62 | 10N | Rev freight transported (F, G, L, N, P, R237) (in lbs).
13 | 63-72 | 10N | Revenue mail transported (F, G, L, N, P, R239) (in lbs).
14 | 73-77 | 5N | Revenue aircraft departures scheduled (F, G520).
15 | 78-87 | 10N | Rev hrs, ramp-to-ramp (F, G, L, N, P, R630) (in minutes).
16 | 88-97 | 10N | Rev hrs, airborne (F, G, L, N, P, R610) (in minutes).

(2) On-flight market record layout:

Field No. | Positions | Mode | Description
1 | 1 | 1A | Record type: M = on-flight market record.
2 | 2-6 | 5A/N | Carrier entity code.
3 | 7-12 | 4N | Report date (YYYYMM).
4 | 13-15 | 3A | Origin airport code.
5 | 16-18 | 3A | estination airport code.
6 | 19 | 1A | Service class code (F, G, L, N, P or R).
7 | 20-26 | 7N | Total passengers in market (F, L, N110).
8 | 37-36 | 10N | Revenue freight in market (F, G, L, N, P, R217) (in lbs).
9 | 37-46 | 10N | Revenue mail in market (F, G, L, N, P, R219) (in lbs).

(i) Record layouts for microcomputer diskettes. The record layouts for diskette are generally identical to those shown for magnetic tape, with the exception that delimiters (quotation marks and commas) are used to separate fields. It is necessary that the order of fields be maintained in all records.

(1) File characteristics. The files will be created in ASCII delimited format, sometimes called Data Interchange Format (DIF). This form of recording data provides for variable length fields (data elements) which, in the case of alphabetic data, are enclosed by quotation marks (“”) and separated by a comma (,) and numeric data elements that are recorded without editing symbols are also separated by a comma (,). The data are identified by their juxtaposition within a given record. Therefore, it is critical that each record contain the exact number of data elements, all of which must be juxtapositionally correct. PC software including most spreadsheets, data base management programs, and BASIC produce minidisk files in this format.

(2) File naming conventions for diskettes. For microcomputer reports, each record type should be contained in a separate DOS file on the same physical diskette. The following DOS naming conventions should be followed:

Record type S = SEGMENT.DAT

Record type M = MARKET.DAT

PART 298—[AMENDED]

22. The authority citation for Part 298 would be revised to read as follows:

Authority: 49 U.S.C. 329 and chapters 41101 and 41708.

23. Section 298.2 would be amended by removing paragraph (m), by removing the alphabetic paragraph designations and placing the definitions in alphabetic order, and by adding the following new definitions in alphabetical order to read as follows:

§ 298.2 Definitions.

* * * * *

Reporting carrier for Schedule T-100 purposes means the air carrier in operational control of the flight, i.e., the carrier that uses its flight crews under its own FAA operating authority.

* * * * *

Wet-Lease Agreement means an agreement under which one carrier leases an aircraft with flight crew to another air carrier.

24. Section 298.60 would be amended by revising paragraphs (a) and (b) to read as follows:

§ 298.60 General reporting instructions.

(a) Each commuter air carrier and each small certificated air carrier shall file with the Department's Bureau of Transportation Statistics (BTS) the applicable schedules of BTS Form 298-C, Report of Financial and Operating Statistics for Small Aircraft Operators and Schedule T-100, U.S. Air Carrier Traffic and Capacity Data by Nonstop Segment and On-Flight Market as required by this section.

(b) A single copy of the BTS Form 298-C report shall be filed quarterly with the Office of Airline Information (OAI) for the periods ended March 31, June 30, September 30 and December 31 of each year to be received on or before May 10, August 10, November 10, and February 10, respectively. An electronic filing of the monthly Schedule T-100 is due at OAI within 30 days after the end of each month. Due dates falling on a Saturday, Sunday or national holiday will become effective on the first following working day.

* * * * *

25. Section 298.61 would be revised to read as follows:

§ 298.61 Reporting of traffic statistics.

(a) Each commuter air carrier and small certificated air carrier shall file Schedule T-100, U.S. Air Carrier Traffic and Capacity Data by Nonstop Segment and On-Flight Market.

(b) Schedule T-100 shall be filed monthly as set forth in § 298.60.

(1) Schedule T-100 collects summarized flight stage data and on-flight market data from revenue flights. All traffic statistics shall be compiled in terms of each flight stage as actually performed. The detail T-100 data shall be maintained in such a manner as to permit monthly summarization and organization into two basic groupings. The first grouping, the nonstop segment information, is to be summarized by equipment type, within class of service, within pair-of-points, without regard to individual flight number. The second grouping requires that the enplanement/deplanement information be broken out into separate units called on-flight market records, which shall be summarized by class of service, within pair-of-points, without regard for equipment type or flight number.

(2) Joint-service operations. The Department may authorize joint service operations between two direct air carriers. Examples of these joint-service operations are: blocked-space agreements; part-charter agreements; code-sharing agreements; wet-lease agreements, and similar arrangements.

(i) Joint-service operations are reported by the carrier in operational control of the flight, i.e., the carrier that uses its flight crews under its own FAA operating authority. The traffic moving under these agreements is reported on Schedule T-100 the same way as any other traffic on the aircraft.

(ii) If there are questions about reporting a joint-service operation, contact the BTS Assistant Director—Airline Information (fax no. 202 366-3383, telephone no. 202 366-4373). Joint-service operations are reported in Schedule T-100 within the following guidelines:

(iii) Operational control. The air carrier in operational control of the aircraft (the carrier that uses its flight crews under its own FAA operating authority) must report joint-service operations.

(c) Service classes.(1) The statistical classifications are designed to reflect the operating characteristics attributable to each distinctive type of service offered. The combination of scheduled and nonscheduled operations with passenger, all-cargo and military services are placed into service classes as follows:

q
Code | Type of service
F | Scheduled Passenger/Cargo
G | Scheduled All-Cargo
L | Nonscheduled Civilian Passenger/Cargo
N | Nonscheduled Military Passenger/Cargo
P | Nonscheduled Civilian Cargo
R | Nonscheduled Military Cargo

(2) Scheduled services include traffic and capacity elements applicable to air transportation provided pursuant to published schedules and extra sections of scheduled flights. Scheduled Passenger/Cargo (Service Class F) is a composite of first class, coach, and mixed passenger/cargo service.

(3) Nonscheduled services include all traffic and capacity elements applicable to the performance of nonscheduled aircraft charters, and other air transportation services not constituting an integral part of services performed pursuant to published flight schedules.

(d) Air transport traffic and capacity elements.(1) Within each of the service classifications, carriers shall report air transport traffic and capacity elements. The reported elements with a BTS numeric code are in the following chart. The elements are reported on segment or market records as follows:

Code | Description | Segment | Market
| Carrier, carrier entity code | S | M
| Reporting period date | S | M
| Origin airport code | S | M
| Destination airport code | S | M
| Service class code | S | M
| Aircraft type code | S
110 | Revenue passengers enplaned |  | M
130 | Revenue passengers transported | S
140 | Revenue passenger-miles |  | Computed by BTS
210 | Revenue cargo tons enplaned |  | Computed by BTS
217 | Enplaned freight |  | M
219 | Enplaned mail |  | M
230 | Revenue tons transported |  | Computed by BTS
237 | Transported freight | S
239 | Transported mail | S
240 | Revenue ton-miles |  | Computed by BTS
241 | Revenue ton-miles passenger |  | Computed by BTS
247 | Revenue ton-miles freight |  | Computed by BTS
249 | Revenue ton-miles mail |  | Computed by BTS
270 | Available capacity payload | S
280 | Available ton-miles |  | Computed by BTS
310 | Available seats, total | S
320 | Available seat-miles |  | Computed by BTS
410 | Revenue aircraft miles flown |  | Computed by BTS
430 | Revenue aircraft miles scheduled |  | Computed by BTS
501 | Inter-airport distance |  | Computed by BTS
510 | Revenue aircraft departures performed | S
520 | Revenue aircraft departures scheduled | S
610 | Revenue aircraft hours (airborne) | S
630 | Aircraft hours (ramp-to-ramp) | S
650 | Total aircraft hours (airborne) | S

(2) [Reserved]

(e) The reported elements are further described as follows:

(1) Reporting period date. The year and month to which the reported data are applicable.

(2) Carrier, Carrier entity code. Each air carrier shall report its name and entity code (a five digit code assigned by BTS that identifies both the carrier and its entity) for its particular operations. The Office of Airline Information (OAI) will assign or confirm codes upon request; OAI's address is Office of Airline Information, BTS, DOT Room 4125, K-25, 400 Seventh Street, SW., Washington, DC 20590-0001.

(3) Service class code. The service class codes are prescribed in section 298.61(c). In general, classes are divided into two broad categories, either scheduled or nonscheduled, where scheduled = F + G and nonscheduled = L + N + P + R.

(4) Record type code. This code indicates whether the data pertain to non-stop segment (record type S) or on-flight market (record type M).

(5) Aircraft type code. This code represents the aircraft types, as described in the BTS' Accounting and Reporting Directives.

(6) Origin, Destination airport code(s). These codes represent the industry designators. An industry source of these industry designator codes is the Official Airline Guide (OAG). OAI assigns codes upon request if not listed in the OAG.

(7) 110 Revenue passengers enplaned. The total number of revenue passengers enplaned at the origin point of a flight, boarding the flight for the first time; an unduplicated count of passengers in a market. Under the T-100 system of reporting, these enplaned passengers are the sum of the passengers in the individual on-flight markets. In the domestic entity, report only the total revenue passengers enplaned in item 110. Nonscheduled revenue passengers enplaned are reported in item 110.

(8) 130 Revenue passengers transported. The total number of revenue passengers transported over a single flight stage, including those already on the aircraft from a previous flight stage. In the domestic entity, report only the total revenue passengers transported in item 130. Non-scheduled revenue passengers transported are reported in item 130.

(9) 140 Revenue passenger-miles. Computed by multiplying the inter-airport distance of each flight stage by the number of passengers transported on that flight stage.

(10) 210 Revenue cargo tons enplaned. The total number of cargo tons enplaned. This data element is a sum of the individual on-flight market figures for each of the following categories: 217 Freight and 219 Mail. This element represents an unduplicated count of the revenue traffic in a market.

(11) 230 Revenue tons transported. The number of tons of revenue traffic transported. This element is the sum of the following elements: 231 Passengers transported—total, 237 Freight, and 239 Mail.

(12) 240 Revenue ton-miles—total. Ton-miles are computed by multiplying the revenue aircraft miles flown (410) on each flight stage by the number of tons transported on that stage. This element is the sum of 241 through 249.

(13) 241 Revenue ton-miles—passenger. Equals the number of passengers times 200, times inter-airport distance, divided by 2000. A standard weight of 200 pounds per passenger, including baggage, is used for all operations and service classes.

(14) 247 Revenue ton-miles—freight. Equals the volume of freight in whole tons times the inter-airport distance.

(15) 249 Revenue ton-miles—mail. Equals the volume of mail in whole tons times the inter-airport distance.

(16) 270 Available capacity-payload. The available capacity is collected in pounds. This figure shall reflect the payload or total available capacity for passengers, mail, and freight applicable to the aircraft with which each flight stage is performed.

(17) 280 Available ton-miles. The aircraft miles flown on each flight stage multiplied by the available capacity on the aircraft in tons.

(18) 310 Available seats. The number of seats available for sale. This figure reflects the actual number of seats available, excluding those blocked for safety or operational reasons. In the domestic entity, report the total available seats in item 130. Nonscheduled available seats are reported in item 130.

(19) 320 Available seat-miles. The aircraft miles flown on each flight stage multiplied by the seat capacity available for sale.

(20) 410 Revenue aircraft miles flown. Revenue aircraft miles flown are computed based on the airport pairs between which service is actually performed; miles are generated from the data for scheduled aircraft departures (Code 520) times the inter-airport distances (Code 501).

(21) 430 Revenue aircraft miles scheduled. The number of revenue aircraft miles scheduled. All such data shall be maintained in conformity with the airport pairs between which service is scheduled, whether or not in accordance with actual performance.

(22) 501 Inter-airport distance. The great circle distance, in official statute miles as prescribed in part 247 of this chapter, between airports served by each flight stage. Official inter-airport mileage may be obtained from the Office of Airline Information.

(23) 510 Revenue aircraft departures performed. The number of revenue aircraft departures performed.

(24) 520 Revenue aircraft departures scheduled. The number of revenue aircraft departures scheduled, whether or not actually performed.

(25) 610 Revenue aircraft hours (airborne). The elapsed time, computed from the moment the aircraft leaves the ground until its next landing.

(26) 630 Aircraft hours (ramp-to-ramp). The elapsed time, computed from the moment the aircraft first moves under its own power from the boarding ramp at one airport to the time it comes to rest at the ramp for the next point of landing. This data element is also referred to as “block” and “block-to-block” aircraft hours.

(27) 650 Total aircraft hours (airborne). The elapsed time, computed from the moment the aircraft leaves the ground until it touches down at the next landing. This includes flight training, testing, and ferry flights.

(f) Public availability of Schedule T-100 data. Detailed domestic on-flight market and nonstop segment data in Schedule T-100 shall be publicly available after processing. Domestic data are defined as data from air transportation operations from a place in any State of the United States, the District of Columbia, the Commonwealth of Puerto Rico and the Virgin Islands, or a U.S. territory or possession to a place in any State of the United States, the District of Columbia, the Commonwealth of Puerto Rico and the Virgin Islands, or a U.S. territory or possession.

Appendix to § 298.61—Instructions to U.S. Air Carriers for Reporting Traffic and Capacity Data on Schedule T-100

(a) Format of reports:

(1) Automatic Data Processing (ADP) magnetic tape. Refer to paragraph (f) of this appendix for instructions pertaining to mainframe and minicomputer reporting. The Department will issue “Accounting and Reporting Directives” to make necessary technical changes to these T-100 instructions, where no policy issues are involved that would require a new rulemaking, or where only a few air carriers are affected.

(2) Microcomputer diskette.

(i) Optional specification. If an air carrier desires to use its personal computers (PC's), rather than mainframe or minicomputers to prepare its data submissions, the following specifications for filing data on diskette media apply.

(ii) Reporting medium. Microcomputer ADP data submission of T-100 information must be on IBM compatible disks. Carriers wishing to use a different ADP procedure must obtain written approval to do so from the BTS Assistant Director—Airline Information. Requests for approval to use alternate methods must disclose the proposed data transmission methodology. Refer to paragraph (k) of this appendix for microcomputer record layouts.

(iii) Microcomputer file characteristics. The files will be created in ASCII delimited format, sometimes called Data Interchange Format (DIF). This form of recording data provides for variable length fields (data elements) which, in the case of alphabetic data, are enclosed by quotation marks (‘’) and separated by a comma (,) and numeric data elements that are recorded without editing symbols are also separated by a comma (,). The data are identified by their juxtaposition within a given record. Therefore, each record must contain the exact number of data elements, all of which must be juxtapositionally correct. Personal computer software including most spreadsheets, data base management programs, and BASIC are capable of producing files in this format.

(b) [Reserved]

(c) [Reserved]

(d) Filing date for reports. The reports must be received at BTS within 30 days following the end of each reporting period.

(e) Address for filing: Data Administration Division, K-25, Room 4125, Office of Airline Information, Bureau of Transportation Statistics, U.S. Department of Transportation, 400 Seventh Street S.W., Washington, DC 20590-0001.

(f) ADP format for magnetic tape: Magnetic tape specifications. IBM compatible 9-track EBCDIC recording. Recording density of 6250 or 1600 bpi. The order of recorded information is:

(1) Volume label.

(2) Header label.

(3) Data records.

(4) Trailer label.

(g) External tape label information.

(1) Carrier name.

(2) Report date.

(3) File identification.

(4) Carrier address for return of tape reel.

(h) Standards. It is the policy of the Department to be consistent with the American National Standards Institute and the Federal Standards activity in all data processing and telecommunications matters. It is our intention that all specifications in this application are in compliance with standards promulgated by these organizations.

(i) Volume, header, and trailer label formats: Use standard IBM label formats. The file identifier field of the header labels should be “T-100.SYSTEM”

(j) Magnetic tape record layouts for T-100.

(1) Nonstop segment record layout:

Field No. | Positions | Mode | Description
1 | 1 | 1A | Record type code (S = nonstop segment).
2 | 2-6 | 5A/N | Carrier entity code.
3 | 7-12 | 6N | Report date (YYYYMM).
4 | 13-15 | 3A | Origin airport code.
5 | 16-18 | 3A | Destination airport code.
6 | 19 | 1A | Service class code (F, G, L, N, P or R).
7 | 20-23 | 4N | Aircraft type code.
8 | 24-28 | 5N | Revenue departures performed (F, G, L, N, P, R510).
9 | 29-38 | 10N | Available capacity payload (lbs) (F, G, L, N, P, R270).
10 | 39-45 | 7N | Available seats (F, L, N310).
11 | 46-52 | 7N | Passengers transported (F, L, N130).
12 | 53-62 | 10N | Rev freight transported (F, G, L, N, P, R237) (in lbs).
13 | 63-72 | 10N | Revenue mail transported (F, G, L, N, P, R239) (in lbs).
14 | 73-77 | 5N | Revenue aircraft departures scheduled (F, G520).
15 | 78-87 | 10N | Rev hrs, ramp-to-ramp (F, G, L, N, P, R630) (in minutes).
16 | 88-97 | 10N | Rev hrs, airborne (F, G, L, N, P, R610) (in minutes).

(2) On-flight market record layout:

Field No. | Positions | Mode | Description
1 | 1 | 1A | Record type: M = on-flight market record.
2 | 2-6 | 5A/N | Carrier entity code.
3 | 7-12 | 4N | Report date (YYYYMM).
4 | 13-15 | 3A | Origin airport code.
5 | 16-18 | 3A | Destination airport code.
6 | 19 | 1A | Service class code (F, G, L, N, P or R).
7 | 20-26 | 7N | Total passengers in market (F, L, N110).
8 | 27-36 | 10N | Rev freight in market (F, G, L, N, P, R217) (in lbs).
9 | 37-46 | 10N | Revenue mail in market (F, G, L, N, P, R219) (in lbs).

(k) Record layouts for microcomputer diskettes. The record layouts for diskette are generally identical to those shown for magnetic tape, with the exception that delimiters (quotation marks and commas) are used to separate fields. It is necessary that the order of fields be maintained in all records.

(1) File characteristics. The files will be created in ASCII delimited format, sometimes called Data Interchange Format (DIF). This form of recording data provides for variable length fields (data elements) which, in the case of alphabetic data, are enclosed by quotation marks (‘’) and separated by a comma (,) and numeric data elements that are recorded without editing symbols are also separated by a comma (,). The data are identified by their juxtaposition within a given record. Therefore, it is critical that each record contain the exact number of data elements, all of which must be juxtapositionally correct. PC software including most spreadsheets, data base management programs, and BASIC produce minidisks files in this format.

(2) File naming conventions for diskettes. For microcomputer reports, each record type should be contained in a separate DOS file on the same physical diskette. The following DOS naming conventions should be followed:

Record type S = SEGMENT.DAT

Record type M = MARKET.DAT

§ 298.64 [Removed]

26. Section 298.64 would be removed.

Issued in Washington, DC, on August 6, 2001.
Ashish Sen,
Director, Bureau of Transportation Statistics.

[FR Doc. 01-21457 Filed 8-27-01; 8:45 am]

BILLING CODE 4910-62-P